CONSUMER PRODUCT SAFETY COMMISSION

Data Sources and Consumer Product-Related Incident Information; Notice of Hearing

AGENCY: Consumer Product Safety Commission.

ACTION: Notice.

SUMMARY: The U.S. Consumer Product Safety Commission (“CPSC,” “Commission,” or “we”) will conduct a public hearing to receive information from all interested parties about sources of consumer product-related incident information that could be used to inform the Commission's hazard identification, risk management, and regulatory enforcement work. We invite participation by members of the public.

DATES: The hearing will begin at 1 p.m. on June 24, 2015, and will conclude the same day. Requests to make oral presentations and texts of oral presentations must be received no later than 5 p.m. Eastern Daylight Time (EDT) on June 17, 2015.

ADDRESSES: The hearing will be in the Hearing Room, 4th Floor of the Bethesda Towers Building, 4330 East-West Highway, Bethesda, MD 20814. Requests to make oral presentations and texts of oral presentations should be captioned “Data Sources and Consumer Product-Related Incident Information” and sent by electronic mail (email) to: cpsc-os@cpsc.gov, or mailed or delivered to the Office of the Secretary, U.S. Consumer Product Safety Commission, 4330 East-West Highway, Room 820, Bethesda, MD 20814; telephone (301) 504-7923.

FOR FURTHER INFORMATION: For information about the hearing, or to request an opportunity to make an oral presentation, please send an email, call, or write Todd A. Stevenson, Office of the Secretary, U.S. Consumer Product Safety Commission, 4330 East-West Highway, Bethesda, MD 20814; email: cpsc-os@cpsc.gov; telephone: (301) 504-7923; facsimile: (301) 504-0127.

SUPPLEMENTARY INFORMATION:

I. Background

The CPSC collects and analyzes data on consumer-product related injuries and deaths, from products under CPSC's jurisdiction, to identify consumer product-related hazards for agency action. A large portion of CPSC's injury information is collected through CPSC's National Electronic Injury Surveillance System (“NEISS”). NEISS is comprised of information coded from hospital emergency department records from a sample of hospitals in the United States. Because the member hospitals are part of a statistical sample, the 400,000 product-related injury reports submitted each year, along with an additional 350,000 non-CPSC injury reports used by other federal agencies, can be projected nationally. Although detailed product information or manufacturer names often are not available, NEISS does support special studies of selected product or hazard scenarios. NEISS data allow assessment of injury trends across time and provide information, such as age, gender, body part injured, and diagnosis, about those injured. NEISS data are available to the public for analysis. Although NEISS data are not a source of product related fatalities or non-emergency department treated injuries, their timely collection does afford CPSC staff an insight to potential product-related emerging hazards.

NEISS data are supplemented by reports collected through other channels, such as saferproducts.gov and the CPSC Hotline. CPSC staff reviews consumer-product related deaths, injuries and near-misses (events that did not result in an injury but had the potential to do so) by collecting and processing more than 40,000 anecdotal incident reports annually. Incident report sources include consumers, medical examiners, coroners, death certificates, health care professionals, state and federal government agencies, manufacturers, retailers, and news clips. These incident reports inform the work of CPSC staff to identify and reduce unreasonable consumer product-related risks.

The form and information content of incident reports vary across sources. News clips report more severe incidents such as carbon monoxide poisonings from generators and consumer product-related children's fatalities. The 6,000 clips are timely and are a valuable source of information that consumers or health officials may not report. The 5,000 reports that CPSC purchases from coroners and medical examiners provide information about an array of fatal events, including those associated with off-road vehicles, furniture tip-overs, and product ingestions. Reports from death certificates purchased from state vital records departments provide similar information but there can be a time lag in the submission of these reports to CPSC.

Good decision making requires high-quality data. The reports of greatest value to CPSC staff for identifying potential emerging hazards and informing risk mitigation decisions include information about the victim (e.g. name, age, gender, address) or submitter (e.g. name, address) that would allow CPSC investigators to make contact for further investigation. These reports should also describe the incident scenario or hazard pattern that makes it apparent why there would be a risk of harm, describe the severity of any injuries that occurred and the date of the incident, and include a description of the product, including the manufacturer and model.

II. The Hearing

Through this notice, the Commission invites the public to provide information on how other organizations, domestic and international, use the data and information collected by CPSC and how the CPSC might enhance the quality, accessibility, utility, and usability of its data and information.

The Commission also invites the public to provide information on other sources of consumer product-related injury and fatality information that contain the information associated with high-quality data. The most helpful input will include a discussion of the source's data quality, format, and information content and how the source might advance CPSC staff's work to maximize the quality and information content of incident reports available to inform the agency's hazard identification, risk mitigation, and regulatory enforcement work.

The Commission also invites the public to provide information regarding industry or other best practices and other successful substantive and technological approaches including but not limited to data collection, data processing, and data format.

In discussing the CPSC's data, presenters should recognize that the CPSC is faced with the challenge of distinguishing consumer product-related incidents that pose a risk of harm or potential risk of harm from those that do not meet customer expectations. This challenge informs the CPSC's approach to its data and many of the complexities associated with it.

Requests to make oral presentations and texts of oral presentations should be captioned “Data Sources and Consumer Product-Related Incident Information” and sent by electronic mail (email) to: cpsc-os@cpsc.gov, or mailed or delivered to the Office of the Secretary, U.S. Consumer Product Safety Commission, 4330 East-West Highway, Room 820, Bethesda, MD 20814; telephone (301) 504-7923; facsimile (301) 504-0127. Requests to make oral presentations and texts of oral presentations must be received no later than 5 p.m. Eastern Daylight Time (EDT) on June 17, 2015. All submissions received may be posted without change, including any personal identifiers, contact information, or other personal information. Presentations will be limited to approximately 10 minutes. The Commission reserves the right to impose further time limitations on all presentations and further restrictions to avoid duplication of presentations.

Dated: May 20, 2015.
Todd A. Stevenson,
Secretary, Consumer Product Safety Commission.

[FR Doc. 2015-12599 Filed 5-22-15; 8:45 am]

BILLING CODE 6355-01-P